DEPARTMENT OF COMMERCE

National Oceanic and Atmospheric Administration

Coastal Zone Management Program: Illinois

AGENCY: Office of Ocean and Coastal Resource Management (OCRM), National Oceanic and Atmospheric Administration (NOAA), Department of Commerce (DOC).

ACTION: Notice of Availability of Final Environmental Impact Statement.

SUMMARY: NOAA's Office of Ocean and Coastal Resource Management (OCRM) announces availability of the Final Environmental Impact Statement (FEIS) on the Illinois Coastal Management Program (ICMP). NOAA has received the State of Illinois' application for approval of its coastal management program under the Coastal Zone Management Act (CZMA), as amended at 16 U.S.C. 1451-1466, and the implementing regulations at 15 CFR Part 923. The draft ICMP and Draft Environmental Impact Statement (DEIS) were released to the public for a 45-day comment period on September 15, 2011, and a public hearing was held in Chicago, Illinois on October 14, 2011 (76 FR 57022). The comment period expired on October 31, 2011. The FEIS includes consideration of all comments received during the official comment period for the DEIS. The FEIS has been distributed to interested parties and responsible government agencies.

DATES: NOAA must receive comments on or before January 22, 2012.

ADDRESSES: Copies of the FEIS described in this notice is available upon request to Diana Olinger, Coastal Program Specialist, OCRM/CPD, N/ORM3, Station 11204, 1305 East-West Highway, Silver Spring, MD 20910. The FEIS can also be viewed on the Internet and downloaded at OCRM's Web site: http://coastalmanagement.noaa.gov/mystate/il.html, or the Illinois Department of Natural Resource's Web site: http://www.dnr.illinois.gov/cmp/Pages/documentation.aspx.

FOR FURTHER INFORMATION CONTACT: Diana Olinger, Coastal Program Specialist, National Oceanic and Atmospheric Administration, OCRM/CPD, N/ORM3, Station 11204, 1305 East-West Highway, Silver Spring, MD 20910, telephone (301) 563-1149, facsimile (301) 713-4367, email Diana.Olinger@noaa.gov. NOAA is not required to respond to comments received as a result of issuance of the FEIS; however, comments will be reviewed and considered for their impact on issuance of the Record of Decision (ROD).

SUPPLEMENTARY INFORMATION: The Coastal Zone Management Act authorizes the Secretary of Commerce (Secretary) to review and approve a state's coastal management program. This authority has been delegated by the Secretary to the National Oceanic and Atmospheric Administration (NOAA), National Ocean Service (NOS). Illinois has submitted a coastal management program to NOAA for approval. The ICMP is the result of substantial efforts on the part of Federal, State, and local agencies, regional organizations, and public and private entities.

Upon finding that a state program has satisfied the requirements of the CZMA, NOAA is required to prepare a DEIS and an FEIS, in accordance with the requirements of the National Environmental Policy Act, as amended at 42 U.S.C. 4321-4370h, and regulations at 40 CFR parts 1500-1508. The proposed Federal action is approval of the ICMP. NOAA's approval of the ICMP would make Illinois eligible for program administration grant funds, would require Federal actions to be consistent with the federally-approved program, and would enhance governance of Illinois' coastal land and water uses according to coastal policies and standards contained in Illinois statutes, authorities, and rules.

Alternative actions analyzed in the FEIS include:

• Federal Approval—OCRM can issue an approval based on a finding that the ICMP meets all requirements of the CZMA and other federal statutes (the preferred alternative).

• “No action”—OCRM can take no action or deny approval based on a finding that the ICMP does not meet all requirements of the CZMA and/or other federal statutes.

• Delay Federal Approval—OCRM could delay approval if any element of the ICMP necessary for program approval is not satisfied and require that the ICMP be modified.

The FEIS analyzes environmental impacts that may result from implementation of the preferred and alternative actions.

Decision Process

The government's decision as to how to proceed will be announced in a Record of Decision (ROD) to be issued no earlier than 30 days after publication of this Notice of Availability.

Dated: December 9, 2011.
Donna Wieting,
Director, Office of Ocean and Coastal Resource Management, National Ocean Service, National Oceanic and Atmospheric Administration.

[FR Doc. 2011-32898 Filed 12-22-11; 8:45 am]

BILLING CODE 3510-08-P